ENVIRONMENTAL PROTECTION AGENCY

40 CFR Part 72

Air Programs Permits Regulation

CFR Correction

In Title 40 of the Code of Federal Regulations, parts 72 to 80, revised as of July 1, 2000, § 72.2 is corrected by removing the definition of Protocol 1 gas and by adding the definition of Standard reference material or SRM to read as follows:

§ 72.2 Definitions

* * * * *

Standard reference material or SRM means a calibration gas mixture issued and certified by NIST as having specific known chemical or physical property values.

* * * * *

[FR Doc. 01-55526 Filed 8-14-01; 8:45 am]

BILLING CODE 1505-01-D